SOCIAL SECURITY ADMINISTRATION

President's Commission To Strengthen Social Security

AGENCY: Social Security Administration (SSA).

ACTION: Announcement of meeting.

DATES: August 22, 2001 1 p.m.—4 p.m.

ADDRESSES: The Grand Ballroom, Loews L'Enfant Plaza Hotel, 480 L'Enfant Plaza, SW, Washington, DC 20024, (202)484-1000

SUPPLEMENTARY INFORMATION: Type of meeting: The meeting will be open to the public between 1 p.m. and 4 p.m.

Purpose: This is the third deliberative meeting of the Commission. No public testimony will be heard at this meeting. However, interested parties are invited to attend the meeting.

Agenda: The Commission will meet commencing Wednesday, August 22, at 1 p.m. and ending at 4 p.m. The topic of discussion will be a review of historical experience in administering portable personal accounts.

Future Meeting Dates: October 18, 2001 (Washington, DC, location to be determined); November 9, 2001 (Location to be determined). Public Hearings—September 6, 2001 (San Diego, CA, location to be determined) and September 21, 2001 (East Coast city, location to be determined).

Records are being kept of all Commission proceedings that are subject to public release under the Federal Advisory Committee Act and are available for public inspection at the Commission's office at the address below. Documents such as meeting announcements, agendas, minutes, and Commission reports will be available on the Commission's web page. Anyone requiring information regarding the Commission should contact Commission staff by:

• Internet at http://www.CSSS.gov;

• Mail addressed to President's Commission to Strengthen Social Security, 734 Jackson Place, NW, Washington, DC, 20503;

• Telephone at (202) 343-1255;

• Email to Comments@CSSS.gov.

Dated: August 1, 2001.
Michael A. Anzick,
Designated Federal Official.

[FR Doc. 01-19840 Filed 8-7-01; 8:45 am]

BILLING CODE 4191-02-P